DEPARTMENT OF JUSTICE

Notice of Lodging of Proposed Consent Decree Under the Clean Water Act; Comprehensive Environmental Response, Compensation, and Liability Act; and Emergency Planning and Community Right-to-Know Act

On March 13, 2020, the Department of Justice lodged a proposed Consent Decree with the United States District Court for the Eastern District of Virginia in the lawsuit entitled United States and Commonwealth of Virginia v. Virginia Electric and Power Company (d/b/a Dominion Energy Virginia), Civil Action No. 3:20-cv-00177.

The United States and the Commonwealth of Virginia filed this lawsuit for injunctive relief and civil penalties against Virginia Electric and Power Company (d/b/a Dominion Energy Virginia). The United States and the Commonwealth allege claims under the Clean Water Act and the Virginia State Water Control Law for violations of NPDES permits at certain facilities in Virginia and West Virginia. In addition, the United States alleges violations of the Emergency Planning and Community Right-to-Know Act and the Comprehensive Environmental Response, Compensation, and Liability Act at the Bellemeade Power Station in Richmond, Virginia, and the Mt. Storm Power Station in Grant County, West Virginia. Finally, the Commonwealth alleges violations of the Virginia State Water Control Law relating to certain unpermitted discharges from the Chesterfield Power Station in Chesterfield County, Virginia.

Under the proposed Consent Decree, Defendant will perform injunctive relief designed to prevent future violations, including auditing and implementation of an environmental management system, a third party environmental audit, internal environmental audits, and training. In addition, Defendant will pay a total civil penalty of $1.4 million.

The publication of this notice opens a period for public comment on the proposed Consent Decree. Comments should be addressed to the Assistant Attorney General, Environment and Natural Resources Division, and should refer to United States and Commonwealth of Virginia v. Virginia Electric and Power Company (d/b/a Dominion Energy Virginia), D.J. Ref. No. 90-5-1-1-11859. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $15 (25 cents per page reproduction cost) payable to the United States Treasury.

Jeffrey Sands,
Assistant Section Chief, Environmental Enforcement Section, Environment and Natural Resources Division.

[FR Doc. 2020-05720 Filed 3-18-20; 8:45 am]

BILLING CODE 4410-15-P